DEPARTMENT OF EDUCATION

Extension of the Application Deadline Date; Applications for New Awards; Competitive Grants for State Assessments Program

AGENCY: Office of Elementary and Secondary Education, Department of Education.

ACTION: Notice.

SUMMARY: On February 16, 2022, the Department of Education (Department) published in the Federal Register a notice inviting applications for the fiscal year (FY) 2022 Competitive Grants for State Assessments Program (NIA), Assistance Listing Number (ALN) 84.368A. The NIA established a deadline date of April 18, 2022, for the transmittal of applications. This notice extends the deadline date for transmittal of applications until May 3, 2022, and extends the deadline for intergovernmental review until July 5, 2022.

DATES:

Deadline for Transmittal of Applications: May 3, 2022.

Deadline for Intergovernmental Review: July 5, 2022.

FOR FURTHER INFORMATION CONTACT: Donald Peasley, U.S. Department of Education, 400 Maryland Avenue SW, Room 3W106, Washington, DC 20202-6132. Telephone: (202) 453-7982. Email: ESEA.Assessment@ed.gov.

If you use a telecommunications device for the deaf (TDD) or a text telephone (TTY), call the Federal Relay Service (FRS), toll free, at 1-800-877-8339.

SUPPLEMENTARY INFORMATION:

On February 16, 2022, we published the NIA in the Federal Register (87 FR 8821). The NIA established a deadline date of April 18, 2022, for the transmittal of applications. This notice extends the deadline date for transmittal of applications until May 3, 2022, as well as the deadline for intergovernmental review.

In March 2022, Congress passed, and the President signed, the Consolidated Appropriations Act, 2022, which provides a total of up to $20.9 million for competitive grants for State assessments for FY 2022, an amount significantly larger than what was estimated in the NIA. These FY 2022 funds are in addition to the $8,900,000 available from the FY 2021 appropriation. To give applicants more time to prepare and submit applications in light of the increased appropriation, we are extending the deadline data for transmittal of applications.

Applicants that have submitted applications on or before the original deadline date of April 18, 2022, may resubmit their applications on or before the new application deadline date of May 3, 2022, but are not required to do so. If a new application is not submitted, the Department will use the application that was submitted by the original deadline. If a new application is submitted, the Department will consider the application that was last successfully submitted and received by 11:59:59 p.m., Eastern Time, on May 3, 2022.

Note: All information in the NIA for this competition remains the same, except for the deadline for the transmittal of applications and the deadline for intergovernmental review.

Program Authority: Section 1203(b)(1) of the ESEA (20 U.S.C. 6363(b)(1)).

Accessible Format: Individuals with disabilities can obtain this document, the NIA, and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Ruth E. Ryder,
Deputy Assistant Secretary for Policy and Programs, Office of Elementary and Secondary Education.

[FR Doc. 2022-07321 Filed 4-6-22; 8:45 am]

BILLING CODE 4000-01-P